DEPARTMENT OF DEFENSE

GENERAL SERVICES ADMINISTRATION

NATIONAL AERONAUTICS AND SPACE ADMINISTRATION

[OMB Control No. 9000-0034; Docket 2013-0077; Sequence 1]

Federal Acquisition Regulation; Information Collection; Examination of Records by Comptroller General and Contract Audit

AGENCY: Department of Defense (DOD), General Services Administration (GSA), and National Aeronautics and Space Administration (NASA).

ACTION: Notice of request for an extension to an existing OMB clearance.

SUMMARY: Under the provisions of the Paperwork Reduction Act, the Regulatory Secretariat will be submitting to the Office of Management and Budget (OMB) a request to review and approve an extension of a previously approved information collection requirement concerning the examination of records by comptroller general and contract audit.

DATES: Submit comments on or before September 13, 2013.

ADDRESSES: Submit comments identified by Information Collection 9000-0034 by any of the following methods:

• Regulations.gov: http://www.regulations.gov. Submit comments via the Federal eRulemaking portal by searching for OMB Control No. 9000-0034. Follow the instructions provided at the “Submit a Comment” screen. Please include your name, company name (if any), and “Information Collection 9000-0034, Examination of Records by Comptroller General and Contract Audit” on your attached document.

• Fax: 202-501-4067.

• Mail: General Services Administration, Regulatory Secretariat (MVCB), 1800 F Street NW., Washington, DC 20405. ATTN: Hada Flowers/IC 9000-0034, Examination of Records by Comptroller General and Contract Audit.

Instructions: Please submit comments only and cite Information Collection 9000-0034, in all correspondence related to this collection. All comments received will be posted without change to http://www.regulations.gov, including any personal and/or business confidential information provided.

FOR FURTHER INFORMATION CONTACT: Mr. Michael O. Jackson, Procurement Analyst, Contract Policy Branch, GSA, 202-208-4949 or email michaelo.jackson@gsa.gov.

SUPPLEMENTARY INFORMATION:

A. Purpose

The objective of this information collection, for the examination of records by Comptroller General and contract audit, is to require contractors to maintain certain records and to ensure the Comptroller General and/or agency have access to, and the right to, examine and audit records, which includes: books, documents, accounting procedures and practices, and other data, regardless of type and regardless of whether such items are in written form, in the form of computer data, or in any other form, for a period of three years after final payment. This information is necessary for examination and audit of contract surveillance, verification of contract pricing, and to provide reimbursement of contractor costs, where applicable. The records retention period is required by the statutory authorities at 10 U.S.C. 2313, 41 U.S.C. 254, and 10 U.S.C. 2306, and are implemented through the following clauses: Audit and Records—Negotiation clause, 52.215-2; Contract Terms and Conditions Required to Implement Statutes or Executive Orders—Commercial Items clause, 52.212-5; and Audit and Records—Sealed Bidding clause, 52.214-26. This information collection does not require contractor's to create or maintain any records that the contractor does not normally maintain in its usual course of business.

Public Comments

Public comments are particularly invited on: Whether this collection of information is necessary for the proper performance of functions of the Federal Acquisition Regulation (FAR), and whether it will have practical utility; whether our estimate of the public burden of this collection of information is accurate, and based on valid assumptions and methodology and ways to enhance the quality, utility, and clarity of the information to be collected.

B. Annual Reporting Burden

For this information collection requirement data from Fiscal Year (FY) 2012 was retrieved from the Federal Procurement Data System—Next Generation (FPDS-NG).

The parameters for this information collection were based on the prescription from each of the applicable clauses. Resulting from a thorough review of each clause prescription, it was determined that the type of contracts associated with this information collection are: Negotiated awards over the simplified acquisition threshold (SAT) using commercial procedures; Negotiated awards over the SAT using other than commercial procedures; and, Sealed bid awards over $700,000. For negotiated awards over the SAT using commercial procedures, FPDS-NG shows 18,709 contracts (7,797 of those were awarded to unique vendors). For negotiated awards over the SAT using other than commercial procedures, FPDS-NG shows 14,085 contracts (6,731 of those were awarded to unique vendors). For sealed bid awards over $700,000, FPDS-NG shows 1,602 contracts (809 of those were awarded to unique vendors). This equates to a total of 34,396 total actions and a total of 15,337 unique vendors after you drill down the 34,396 actions looking only for the unique Data Universal Numbering System (DUNS) number. The 15,337 actions will be used as the number of estimated respondents per year.

It is estimated that number of responses per respondent is ten. This is derived by dividing the number of contract actions by the number of unique vendors (2.2 contracts), plus an average of three subcontracts per contract (considering the applicable clauses flows down to subcontractors). It is further estimated that the time required to read and prepare a response is 60 minutes.

Respondents: 15,337.

Responses per Respondent: 10.

Total number of responses: 153,370.

Hours per Response: 1.0.

Total Burden Hours: 153,370.

The 153,370 burden hours represent a significant increase over the 63,934 hours that was published in the information collection notice in the Federal Register at 75 FR 10268 on March 5, 2010, due to the increase in the estimated hours per response, by fifty minutes, from ten minutes to 1 hour.

Obtaining Copies of Proposals: Requesters may obtain a copy of the information collection documents from the General Services Administration, Regulatory Secretariat (MVCB), 1800 F Street NW., Washington, DC 20405, telephone 202-501-4755. Please cite OMB Control Number 9000-0034, Examination of Records by Comptroller General and Contract Audit, in all correspondence.

Dated: July 9, 2013.
Karlos Morgan,
Acting Director, Federal Acquisition Policy, Office of Governmentwide Acquisition Policy, Office of Acquisition Policy, Office of Governmentwide Policy.

[FR Doc. 2013-16918 Filed 7-12-13; 8:45 am]

BILLING CODE 6820-EP-P